ENVIRONMENTAL PROTECTION AGENCY

[EPA-HQ-OPP-2018-0014; FRL-10017-33]

Product Cancellation Order for Certain Pesticide Registrations and Amendments To Terminate Uses; Amendment

AGENCY: Environmental Protection Agency (EPA).

ACTION: Notice.

SUMMARY: EPA issued a notice in the Federal Register of March 19, 2019, concerning the cancellations voluntarily requested by the registrants and accepted by the Agency but have not yet become effective. This notice is being issued to amend the cancellation order, as requested by the registrant, by amending the effective date of the cancellation and the existing stocks provision for the two triadimefon registrations (264-736 and 264-740).

DATES: The Federal Register of March 19, 2019, announced the voluntarily cancellation of two triadimefon registrations (264-736 and 264-740) that the registrant requested.

FOR FURTHER INFORMATION CONTACT: Matthew B. Khan, Pesticide Reevaluation Division (7502P), Office of Pesticide Programs, Environmental Protection Agency, 1200 Pennsylvania Ave. NW, Washington, DC 20460-0001; telephone number: (703) 347-8613 email address: khan.matthew@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2018-0014, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001.

Due to the public health concerns related to COVID-19, the EPA Docket Center (EPA/DC) and Reading Room is closed to visitors with limited exceptions. The staff continues to provide remote customer service via email, phone, and webform. For the latest status information on EPA/DC services and docket access, visit https://www.epa.gov/dockets.

II. What does this amendment do?

This notice is being issued to amend the voluntary cancellation effective date for the two triadimefon registrations listed in Table 1 of the cancellation notice that published in the Federal Register on March 19, 2019 (84 FR 10068) (FRL-9989-85), which was corrected in the Federal Register on May 29, 2019 (84 FR 24778) (FRL-9992-29). The agency was made aware by Bayer that the final shipments of their triadimefon technical registrations were delayed due to quarantine measures. Since the risk assessments for triadimefon have not yet been conducted and no risks of concern have been identified at this time, the agency has determined that this extension will not pose a significant risk. This amendment grants the two-month extension for the two triadimefon registrations (264-736 and 264-740). The effective cancellation date for these registrations is now February 28, 2020, with a one-year existing stocks provision.

Authority: 7 U.S.C. 136 et seq.

Dated: November 25, 2020.
Mary Reaves,
Acting Director, Pesticide Re-Evaluation Division, Office of Pesticide Programs.

[FR Doc. 2021-00322 Filed 1-11-21; 8:45 am]

BILLING CODE 6560-50-P